FEDERAL RESERVE SYSTEM

Change in Bank Control Notices; Acquisitions of Shares of a Savings and Loan Holding Company; Correction

This notice corrects a notice (FR Doc. 2014-03159) published on page 8718 of the issue for Thursday, February 13, 2014.

Under the Federal Reserve Bank of Atlanta heading, the entry for John W. Langdale, Jr., Trust, Margaret E. Langdale Trust, and Lee L. Mikuta Trust, all of Valdosta, Georgia, is revised to read as follows:

Formations of, Acquisitions by, and Mergers of Savings and Loan Holding Companies

The companies listed in this notice have applied to the Board for approval, pursuant to the Home Owners' Loan Act (12 U.S.C. 1461 et seq.) (HOLA), Regulation LL (12 CFR Part 238), and Regulation MM (12 CFR Part 239), and all other applicable statutes and regulations to become a savings and loan holding company and/or to acquire the assets or the ownership of, control of, or the power to vote shares of a savings association and nonbanking companies owned by the savings and loan holding company, including the companies listed below.

The applications listed below, as well as other related filings required by the Board, are available for immediate inspection at the Federal Reserve Bank indicated. The application also will be available for inspection at the offices of the Board of Governors. Interested persons may express their views in writing on the standards enumerated in the HOLA (12 U.S.C. 1467a(e)). If the proposal also involves the acquisition of a nonbanking company, the review also includes whether the acquisition of the nonbanking company complies with the standards in section 10(c)(4)(B) of the HOLA (12 U.S.C. 1467a(c)(4)(B)). Unless otherwise noted, nonbanking activities will be conducted throughout the United States.

Unless otherwise noted, comments regarding each of these applications must be received at the Reserve Bank indicated or the offices of the Board of Governors not later than March 11, 2014.

A. Federal Reserve Bank of Atlanta (Chapelle Davis, Assistant Vice President) 1000 Peachtree Street, NE., Atlanta, Georgia 30309:

1. John W. Langdale, Jr. Trust, Margaret E. Langdale Trust, and Lee L. Mikuta Trust, all of Valdosta, Georgia, to become savings and loan holding companies by acquiring Lowndes Bancshares, Inc., and thereby indirectly acquire Commercial Banking Company, both in Valdosta, Georgia.

Board of Governors of the Federal Reserve System, February 20, 2014.
Michael J. Lewandowski,
Associate Secretary of the Board.

[FR Doc. 2014-04019 Filed 2-24-14; 8:45 am]

BILLING CODE 6210-01-P